FEDERAL COMMUNICATIONS COMMISSION

[OMB 3060-XXXX, 3060-1286; FRS 38003]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before September 17, 2021. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele, (202) 418-2991.

SUPPLEMENTARY INFORMATION: OMB Control Number: 3060-XXXX.

Title: Private Entity Robocall and Spoofing Information Submission Portal, FCC Form 5642.

Form Number: FCC Form 5642.

Type of Review: New collection.

Respondents: Business or other for-profit entities, and non-profit organizations.

Number of Respondents and Responses: 50 respondents; 50 responses.

Estimated Time per Response: 1 hour.

Frequency of Response: On occasion reporting requirement; third party disclosure requirement.

Obligation to Respond: Voluntary. Statutory authority for this information collection is contained in the TRACED Act section 10(a).

Total Annual Burden: 50 hours.

Total Annual Cost: No Cost.

Privacy Act Impact Assessment: No impact(s).

Nature and Extent of Confidentiality: Assurances of confidentiality will be provided to the respondents; however, respondents will be made aware that their submissions may be shared with the Department of Justice, Federal Trade Commission, other federal agencies combatting robocalls, state attorney general offices, other law enforcement entities with which the Commission has information sharing agreements, and the registered traceback consortium.

Needs and Uses: Section 10(a) of the Pallone-Thune Telephone Robocall Abuse Criminal Enforcement and Deterrence Act (TRACED Act) directs the Commission to establish regulations to create a process that “streamlines the ways in which a private entity may voluntarily share with the Commission information relating to” a call or text message that violates prohibitions regarding robocalls or spoofing set forth section 227(b) and 227(e) of the Communications Act of 1934, as amended. On June 17, 2021, the Commission adopted a Report and Order to implement section 10(a) by creating an online portal located on the Commission's website where private entities may submit information about robocall and spoofing violations. The Enforcement Bureau (Bureau) will manage this portal.

A private entity is any entity other than (1) an individual natural person or (2) a public entity. A public entity is any governmental organization at the federal, state, or local level. Thus, the portal is not intended for individual consumers who already have a mechanism to submit robocall or spoofing complaints via the Commission's informal complaint process.

The portal will request private entities to submit certain minimum information including, but not necessarily limited to, the name of the reporting private entity, contact information, including at least one individual name and means of contacting the entity (e.g., a phone number), the caller ID information displayed, the phone number(s) called, the date(s) and time(s) of the relevant calls or texts, the name of the reporting private entity's service provider, and a description of the problematic calls or texts.

Although the portal will not reject submissions that fail to include the above information, such failure will make it more difficult for the Bureau to investigate fully and take appropriate enforcement action. Once submitted, the Bureau will review to determine whether the information presents evidence of a violation of the Commission's rules. The Bureau may share submitted information with the Department of Justice, Federal Trade Commission, other federal agencies combatting robocalls, state attorney general offices, other law enforcement entities with which the Commission has information sharing agreements, and the registered traceback consortium.

OMB Control Number: 3060-1286.

Title: Emergency Connectivity Fund Program.

Form Number: FCC Forms 471, 472, 474, and 500.

Type of Review: Extension of a currently approved collection.

Respondents: Business or other for-profit, state, local or tribal government institutions, and other not-for-profit institutions.

Number of Respondents and Responses: 23,000 respondents; 132,100 responses.

Estimated Time per Response: 4.5 hours for FCC Form 471 (4 hours for response; 0.5 hours for recordkeeping); 1.5 hours for FCC Forms 472/474 (1 hour for response; 0.5 hours for recordkeeping); 1.5 hours for Emergency Connectivity Fund Post-Commitment Change Request (streamlines collection based on the FCC Form 500 and FCC Form 471 for use in the Emergency Connectivity Fund Program) (1 hour for response; 0.5 hours for recordkeeping)).

Frequency of Response: On occasion and annual reporting requirements; recordkeeping requirement.

Obligation to Respond: Required to obtain or retain benefits. Statutory authority for this information collection is contained in in sections 1, 4(i), 4(j), 201-205, 214, 254, and 403 of the Communications Act of 1934, as amended, 47 U.S.C. 151-154, 201-205, 218-220, 254, 303(r), 403 and 405 and section 7402 of the American Rescue Plan Act, Pub. L. 117-2, 135 Stat. 4.

Total Annual Burden: 315,450 hours.

Total Annual Cost: No Cost.

Privacy Act Impact Assessment: No impact(s).

Nature and Extent of Confidentiality: There is no assurance of confidentiality provided to applicants and service providers concerning this information collection. However, applicants and service providers may request materials or information submitted to the Commission or to USAC be withheld from public inspection under 47 CFR 0.459 of the FCC's rules.

Needs and Uses: The requirements contained herein are necessary to implement and administer the Congressional mandate for the Emergency Connectivity Fund. The information collected herein provides the Commission and USAC with the necessary information to administer the Emergency Connectivity Fund Program, determine the amount of support entities seeking funding are eligible to receive, determine if entities are complying with the Commission's rules, and to prevent waste, fraud, and abuse. The information will also allow the Commission to evaluate the extent to which the Emergency Connectivity Fund is meeting the statutory objectives specified in section 7402 of the American Rescue Plan Act, the Commission's performance goals set forth in the Emergency Connectivity Fund Report and Order, and to evaluate the need for and feasibility of any future revisions to program rules. The name, address, DUNS number and business type will be disclosed in accordance with the Federal Funding Accountability and Transparency Act/Digital Accountability and Transparency Act (FFATA/DATA Act) reporting requirements. Emergency Connectivity Fund Program application, commitment, and disbursement data will also be publicly available.

Federal Communications Commission.
Marlene Dortch,
Secretary, Office of the Secretary.

[FR Doc. 2021-15204 Filed 7-16-21; 8:45 am]

BILLING CODE 6712-01-P